DEPARTMENT OF COMMERCE

National Oceanic and Atmospheric Administration

50 CFR Part 697

[I.D. 081500A]

Atlantic Coastal Fisheries Cooperative Management Act Provision; Atlantic Coast Horseshoe Crab Fishery; Public Hearings

AGENCY: National Marine Fisheries Service (NMFS), National Oceanic and Atmospheric Administration (NOAA), Commerce.

ACTION: Notice of public hearings; request for comments.

SUMMARY: NMFS is considering implementing a closed area to provide conservation for horseshoe crabs near the mouth of Delaware Bay. NMFS will hold three public hearings to receive comments from fishery participants and other members of the public regarding its proposal to prohibit fishing for, and possession of, horseshoe crabs (Limulus polyphemus) in a designated area in Federal waters (EEZ) off the mouth of the Delaware Bay, with a limited exception for vessels fishing for whelk and conch (whelk).

DATES: NMFS will take comments at public hearings in September 2000. See SUPPLEMENTARY INFORMATION for dates and times of the public hearings.

ADDRESSES: Copies of a Draft Environmental Assessment/Regulatory Impact Review/Initial Regulatory Flexibility Analysis (EA/RIR/IRFA) and a draft proposed rule are available from Richard H. Schaefer, Chief, Staff Office for Intergovernmental and Recreational Fisheries, National Marine Fisheries Service, 8484 Georgia Avenue, Suite 425, Silver Spring, MD 20910. NMFS will take comments at public hearings; for their location see SUPPLEMENTARY INFORMATION.

FOR FURTHER INFORMATION CONTACT: Paul Perra at 301-427-2014.

SUPPLEMENTARY INFORMATION: NMFS is considering a prohibition on fishing for horseshoe crabs and limiting the possession of horseshoe crabs in a roughly rectangular area approximately 1,500 square nautical miles (nm) in the EEZ off the mouth of the Delaware Bay. The proposed closed area will cover approximately 1,500 square nm and is bounded as follows: (1) On the north by a straight line connecting points 39°14.6'N. lat., 74°30.9'W. long. (3 nm off of Peck Beach, New Jersey) and 39°14.6'N lat., 74°22.5'W. long.; (2) On the east by a straight line connecting points 39°14.6'N. lat., 74°22.5'W. long. and 38°22.0'N. lat., 74°22.5'W. long.; (3) On the south side by a straight line connecting points 38°22.0'N. lat., 74°22.5'W. long. and 38°22.0'N. lat., 75°00.4'W. long. (3 nm off of Ocean City, Maryland); and (4) On the west by state waters. The possession of horseshoe crabs would be prohibited on all commercial vessels except whelk fishing vessels. For whelk fishing vessels, these vessels would be allowed to use horseshoe crabs as bait as long as they have only whelk traps on board and no other commercial fishing gear. All vessels, including whelk vessels, would be prohibited from fishing for horseshoe crabs in the closed area. A further description of the measure and the purpose and need for the proposed actions are contained in an advance notice of proposed rulemaking published on May 3, 2000 (65 FR 25698) and in the draft EA/RIR/IRFA and are not repeated here. NMFS intends to issue a proposed rule shortly in the Federal Register. Written comments on that proposed rule will be accepted during the comment period identified in that rule once it is published in the Federal Register. The public hearings announced in this notice are intended to occur during that comment period on the proposed rule. Copies of the draft proposed rule may be obtained from NMFS (see ADDRESSES or FOR FURTHER INFORMATION).

Public Hearing Schedule

NMFS will take comments at public hearings to be held as follows:

1. Tuesday, September 5, 2000, 7:30-9:30 p.m.—Department of Natural Resources and Environmental Control Auditorium, 89 Kings Highway, Dover, DE 19901.

2. Wednesday, September 6, 2000, 6:30-8:30 p.m.—New Jersey Marine Advisory Service, Education Center, Dennisville Road, Route 657, Cape May Court House, NJ 08210.

3. Thursday, September 7, 2000, 7-9 p.m.—Wicomico County Free Library, 122 South Division Street, Salisbury, MD 21802.

The purpose of this document is to alert the interested public of hearings and provide for public participation.

Special Accommodations

These hearings are physically accessible to people with disabilities. Requests for sign language interpretation or other auxiliary aids should be directed to Richard H. Schaefer (see ADDRESSES) at least 5 days prior to the meeting date.

Authority: 16 U.S.C. 5101 et seq.

Dated: August 17, 2000.
Bruce C. Morehead,
Acting Director, Office of Sustainable Fisheries, National Marine Fisheries Service.

[FR Doc. 00-21371 Filed 8-21-00; 8:45 am]

BILLING CODE 3510-22-F